DEPARTMENT OF DEFENSE

Department of the Air Force

Scientific Advisory Board

AGENCY: Department of the Air Force, DoD.

ACTION: Notice of closed meeting.

SUMMARY: The Predictive Battlespace Awareness to Improve Military Effectiveness Study will meet at Ramstein Air Force Base on 18-19 March 2002, Spangdahlem Air Force Base on 20 March 2002, and Lakenheath Air Force Base on 21-22 March 2002. The purpose of this meeting is to allow the Scientific Advisory Board and study leadership of this CSAF-directed study to continue the “data gathering” phase of the ongoing study efforts. The meeting will be closed to the public in accordance with section 552b of Title 5, United States Code, specifically subparagraphs (10) and (4) thereof.

DATES: 18-22 March, 2002.

ADDRESSES: Ramstein AFB, Germany; Spangdahlem AFB, Germany; and Lakenheath AFB, United Kingdom.

FOR FURTHER INFORMATION CONTACT: HQ USAF Scientific Advisory Board Secretariat, (703) 697-8404.

Pamela D. Fitzgerald,
Air Force Federal Register Liaison Officer.

[FR Doc. 02-5942 Filed 3-12-02; 8:45 am]

BILLING CODE 5001-05-P